DEPARTMENT OF HOUSING AND URBAN DEVELOPMENT

[Docket No. FR-6563-N-01]

30-Day Notice Waiver for Fair Housing Initiatives Program NOFOs; Notice of Waiver

AGENCY: Office of the Deputy Secretary, HUD.

ACTION: Notice of waiver.

SUMMARY: This notice announces a waiver, granted by the Secretary, through the Deputy Secretary, of the minimum 30-day application period required under section 102(a) of the HUD Reform Act for four Fair Housing Initiatives Program (FHIP) notices of funding opportunities (NOFOs), which were published on HUD's website on July 29, 2025 (FR-6900-N-21-A, FR-6900-N-21-B, FR-6900-N-21-C, and FR-6900-N-71-A).

FOR FURTHER INFORMATION CONTACT: For information regarding this notice, contact Melody C. Taylor, Acting Deputy Assistant Secretary for Enforcement and Programs, Office of Fair Housing and Equal Opportunity, Department of Housing and Urban Development, 451 7th Street SW, Washington, DC 20011; telephone number 202-213-5340 (this is not a toll-free number); email Melody.C.Taylor@hud.gov. HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION: Section 102(a) of the HUD Reform Act (42 U.S.C. 3545(a)) sets out the requirements for notice to the public regarding assistance available from HUD. Section 102(a)(3) requires publication of selection criteria not less than 30 days before the deadline for applications or requests for assistance. On July 29, 2025, the Department published four NOFOs for FHIP (the FHIP Education and Outreach Initiative (FR-6900-N-21-A); the FHIP—Fair Housing Organizations Initiative (FHOI) (FR-6900-N-21-B); the FHIP—Private Enforcement Initiative (PEI) (FR-6900-N-21-C); and the FHIP—Education and Outreach Initiative—Test Coordinator (FR-6900-N-71-A)) announcing the availability of over $22 million in Fiscal Year 2024 FHIP funds, which were appropriated in the Consolidated Appropriations Act, 2024 (Pub. L. 118-42).

The July 29, 2025, NOFOs announced a funding application deadline of 11:59 p.m. EST on August 21, 2025. The period was less than the 30-day minimum application requirement under section 102(a)(3). Section 102(a)(5) of the Reform Act permits the Secretary to waive the minimum 30-day application period “if the Secretary determines that the waiver is required for appropriate response to an emergency.” The Secretary is also required to publish, in the Federal Register, the reasons for granting such a waiver.

The Secretary has granted a waiver of the 30-day minimum application requirement for the four previously referenced NOFOs. It was necessary for the Department to establish a slightly shortened application period for these NOFOs to address certain exigent and emergency circumstances. Specifically, HUD is required by statute to obligate the FHIP funds before they expire on September 30, 2025. Given that several activities must occur prior to obligating this funding, such as conducting eligibility and merit reviews, formulating award recommendations, and allowing time for HUD leadership to review award recommendations and make award determinations, HUD must ensure that there is adequate time for HUD to complete all necessary actions before the statutory deadline.

Due to the change in administration, HUD needed to review the prior administration's grantmaking practices for compliance with new Executive Orders and to align those practices with the current administration's Executive Orders and policies. Such review was time-intensive, including various consultations and approvals, and included revising HUD's NOFO template. This led to the four FHIP NOFOs, originally published in September 2024, being republished in July 2025 using language consistent with current Executive Orders and administration policies. Even if the above could have been conducted faster (which HUD does not concede), that would not change the reality that, at the current time, a shortened application period is necessary to ensure compliance with the statutorily-required September 30, 2025, deadline for obligation of funding.

Further, the limited reduction of the application period—from 30 to 23 days—is not a significant time reduction for application preparation purposes. A 23-day application period is a sufficient amount of time to apply to these long-standing FHIP programs. Further, any potential adverse impact on the applicants is mitigated by the fact that many (if not all) applicants will only need to update their prior applications for the September 2024 NOFOs.

As such, the circumstances demonstrated that an emergency existed that justified the granting of a waiver of the 30-day application period required under section 102(a) of the HUD Reform Act.

Andrew Hughes,
Deputy Secretary.

[FR Doc. 2025-16021 Filed 8-20-25; 8:45 am]

BILLING CODE 4210-67-P